DEPARTMENT OF THE INTERIOR

National Park Service

[NPS-WASO-D-COS-POL-30231; PPWODIREP0; PPMPSAS1Y.YP0000]

Notice of the June 30, 2020, Teleconference Meeting of the National Park System Advisory Board

AGENCY: National Park Service, Interior.

ACTION: Notice of teleconference.

SUMMARY: In accordance with the Federal Advisory Committee Act of 1972, the National Park Service (NPS) is hereby giving notice that the National Park System Advisory Board (Board) will meet as noted below.

DATES: The teleconference meeting will be held on Tuesday, June 30, 2020, from 11:00 a.m., to 5:00 p.m., Eastern Daylight Time. For deadlines and instructions on registering to participate, submitting written material and giving an oral presentation, please see guidance under SUPPLEMENTARY INFORMATION.

FOR FURTHER INFORMATION CONTACT: Joshua Winchell, Staff Director for the National Park System Advisory Board, Office of Policy, National Park Service, telephone (202) 513-7053, or email joshua_winchell@nps.gov.

SUPPLEMENTARY INFORMATION: The Board has been established by authority of the Secretary of the Interior (Secretary) under 54 U.S.C. 100906, and is regulated by the Federal Advisory Committee Act.

The Board will convene its meeting at 11:00 a.m. and adjourn at 5:00 p.m. The Board will receive briefings and discuss topics related to improving the visitor experience in NPS managed units and workforce planning for the next century. The final agenda and briefing materials will be posted to the Board's website prior to the meeting at https://www.nps.gov/advisoryboard.htm.

The meeting is open to the public. Interested persons may choose to make oral comments at the meeting during the designated time for this purpose. Depending on the number of people wishing to comment and the time available, the amount of time for oral comments may be limited. Interested parties should contact the Staff Director for the Board (see FOR FURTHER INFORMATION CONTACT), for advance placement on the public speaker list for this meeting. Members of the public may also choose to submit written comments by emailing them to joshua_winchell@nps.gov.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2020-12247 Filed 6-4-20; 8:45 am]

BILLING CODE 4312-52-P